DEPARTMENT OF TRANSPORTATION

Office of the Secretary

Certificates of Public Convenience; Applications

Notice of Applications for Certificates of Public Convenience and Necessity and Foreign Air Carrier Permits Filed Under Subpart Q during the Week Ending August 11, 2000. The following Applications for Certificates of Public Convenience and Necessity and Foreign Air Carrier Permits were filed under Subpart Q of the Department of Transportation's Procedural Regulations (See 14 CFR 302, 1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-7748.

Date Filed: August 7, 2000.

Due Date for Answers, Conforming Applications, or Motion to Modify Scope: August 28, 2000.

Description: Application of Aero Continente Chile, S.A. (“AC Chile”) pursuant to 49 U.S.C. Sections 41301, 41302 and Subpart Q, applies for a foreign air carrier permit authorizing it to engage in scheduled foreign air transportation of passengers, property and mail between a point or points in the Chile nonstop and/or via intermediate points and a point or points in the United States, and in charter services, including between points in the United Sates and points outside, thereof, pursuant to Part 212 of the Department's regulations.

Docket Number: OST-2000-7752.

Date Filed: August 7, 2000.

Due Date for Answers, Conforming Applications, or Motion to Modify Scope: August 28, 2000.

Description: Application of Aerorepublica S.A. pursuant to 49 U.S.C. Section 41302, 14 CFR Part 211 and subpart Q, requests an initial foreign air carrier permit authorizing it to perform charter foreign air transportation of persons, property and mail between a point or points in the Republic of Colombia and Orlando, Florida.

Dorothy Y. Beard,
Federal Register Liaison.

Application of Aero Continente Chile S.A. for a Foreign Air Carrier Permit Pursuant to 49 U.S.C. Section 41301 (Chile-U.S. Scheduled); Application of Aero Continente Chile S.A. for a Foreign Air Carrier Permit

August 7, 2000.

It is Requested that this Application be processed under the expedited nonhearing procedures pursuant to 14 CFR section 302.1740 of the Procedural Regulations of the Department of Transportation.

COMMUNICATIONS with respect to this document may be sent to: Lawrence D. Wasko, Jacquelyn N. Gluck, 1150 Connecticut Avenue, N.W., Suite 900, Washington, D.C. 20036, Attorneys for Aero Continente Chile S.A., (202) 862-4370.

NOTICE: Any person may file an answer in support of or in opposition to this Application with the Department of Transportation on or before August 28, 2000 and serve a copy of Applicant and persons served with this Application.

Application of Aero Continente Chile S.A. for a Foreign Air Carrier Permit Pursuant to 49 U.S.C. Section 41301 (Chile-U.S. Schedule; Application of Aero Continente Chile S.A. for a Foreign Air Carrier Permit

[Docket OST-00- ]

Comes now Aero Continente Chile S.A. (“AC Chile” or “Applicant”) pursuant to 49 U.S.C. sections 41301 and 41302, and the Economic Regulations of the Department of Transportation (the “Department”), 14 CFR Part 211, and hereby applies for a foreign air carrier permit authorizing it to engage in scheduled foreign air transportation of passengers, property and mail between a point or points in the Chile nonstop and/or via intermediate points and a point or points in the United States, and in charter services, including between points in the United States and points outside thereof, pursuant to Part 212 of the Department's regulations. AC Chile requests that this application be processed under the expedited non-hearing procedures set forth Subpart Q, Rule 1740, of the Department's Rules of Practice, 14 CFR Part 302. In support of this application AC Chile respectfully represents and alleges as follows:

1. The full name of the company is Aero Continente Chile S.A. The address of Applicant's principal office is Merchant Pereira 367, Oficina 801, Providencia, Santiago de Chile, Chile.

Application of AeroRepública S.A. for a Foreign Air Carrier Permit Pursuant to 49 U.S.C. § 41302 (Colombia-Orlando, Florida Passenger Charters); Application of AeroRepública S.A. for a Foreign Air Carrier Permit

[Docket OST-00-7752-1]

August 7, 2000.

Communications with respect to this document should be addressed to: Mark W. Atwood, Sher & Blackwell, 1850 M St., NW., Washington, DC 20036, (202) 463-2513, Counsel for AeroRepública S.A.

Notice: Any person may support or oppose this application by filing an answer and serving a copy on the above-named persons and all persons on the attached service list. Answers are due by August 28, 2000.

Application of AeroRepública S.A. for a Foreign Air Carrier Permit Pursuant to 49 U.S.C. § 41302 (Colombia-Orlando, Florida Passenger Charters); Application of AeroRepública S.A.

[Docket OST-00- ]

Pursuant to 49 U.S.C. § 41302 and 14 CFR part 211, AeroRepública S.A., an air carrier of the Republic of Colombia, hereby requests an initial foreign air carrier permit authorizing it to perform charter foreign air transportation of persons, property and mail between a point or points in the Republic of Colombia and Orlando, Florida.

AeroRepública proposes to begin its service to the United States by offering four charter flights per week between Bogotá and Orlando, Florida, using B-727-200 aircraft. It plans to inaugurate this service on November 1, 2000.

In support of its request, AeroRepública submits the following information as required by 14 CFR § 211.20:

[FR Doc. 00-22642 Filed 9-1-00; 8:45 am]

BILLING CODE 4910-62-P